DEPARTMENT OF AGRICULTURE

Food and Nutrition Service

7 CFR Parts 210, 215, 220, 226, and 235

[FNS-2019-0007]

RIN 0584-AE67

Simplifying Meal Service and Monitoring Requirements in the National School Lunch and School Breakfast Programs; Extension of Comment Period

AGENCY: Food and Nutrition Service (FNS), USDA.

ACTION: Proposed rule; extension of comment period.

SUMMARY: This rulemaking proposes changes to simplify meal pattern and monitoring requirements in the National School Lunch and School Breakfast Programs. The proposed changes, including optional flexibilities, are customer-focused and intended to help State and local Program operators overcome operational challenges that limit their ability to manage these Programs efficiently. The original comment period for this rule ends on March 23, 2020. FNS is extending the comment period through April 22, 2020.

DATES: The comment period for the proposed rule published on January 23, 2020 (85 FR 4094) has been extended through April 22, 2020. To be assured of consideration, comments must be received on or before April 22, 2020.

ADDRESSES: The Food and Nutrition Service, USDA, invites interested persons to submit written comments on this proposed rule. Comments may be submitted in writing by one of the following methods:

• Preferred Method: Federal eRulemaking Portal: Go to http://www.regulations.gov. Follow the online instructions for submitting comments.

• Mail: Send comments to School Programs Branch, Policy and Program Development Division, Food and Nutrition Service, 1320 Braddock Place, 4th Floor, Alexandria, Virginia 22314.

All written comments submitted in response to this proposed rule will be included in the record and will be made available to the public. Please be advised that the substance of the comments and the identity of the individuals or entities submitting the comments will be subject to public disclosure. FNS will make the written comments publicly available on the internet via http://www.regulations.gov.

FOR FURTHER INFORMATION CONTACT: Tina Namian, Chief, School Programs Branch, Policy and Program Development Division, Food and Nutrition Service, 703-305-2590.

SUPPLEMENTARY INFORMATION: The Food and Nutrition Service (FNS) is reopening the public comment period for this proposed rule, which was published on January 23, 2020. The Coronavirus Disease 2019 (COVID-19) outbreaks have had a strong impact on schools, state agencies, stakeholders and others who are working tirelessly to ensure children receive meals in light of school closures. USDA wants to give these parties, and the public at large, additional time to provide feedback on these proposed reforms.

Dated: March 16, 2020.
Pamilyn Miller,
Administrator, Food and Nutrition Service.

[FR Doc. 2020-05979 Filed 3-20-20; 8:45 am]

BILLING CODE 3410-30-P